AGENCY FOR INTERNATIONAL DEVELOPMENT

Notice of Request for Extension, Without Change of the Currently Approved Information Collections; Comments Requested

AGENCY: U.S. Agency for International Development.

ACTION: Notice of public information collections.

SUMMARY: In an effort to reduce the paperwork burden, the U.S. Agency for International Development (USAID) invites the general public and other Federal agencies to take this opportunity to comment on the following continuing information collections, as required by the Paperwork Reduction Act for 1995. Comments are requested concerning: (a) Whether the collections of information are necessary for the proper performance of the functions of the agency, including whether the information has practical utility; (b) the accuracy of the burden estimates; (c) ways to enhance the quality, utility, and clarity of the information collected; and (d) ways to minimize the burden of the collection of information on the respondents, including through the use of automated collection techniques or other forms of information technology.

DATES: Submit comments on or before April 9, 2018.

ADDRESSES: Address all comments concerning this notice to Lyudmila Bond, Bureau for Management, Office of Acquisition and Assistance, Policy Division (M/OAA/P), Room 867, SA-44, Washington, DC 20523-2052. Submit comments, identified by title of the action and Regulation Identifier Number (RIN) by any of the following methods:

1. Through the Federal eRulemaking Portal at http://www.regulations.gov by following the instructions for submitting comments.

2. By Mail addressed to: USAID, Bureau for Management, Office of Acquisition & Assistance, Policy Division, Room 867M, SA-44, Washington, DC 20523-2052.

FOR FURTHER INFORMATION CONTACT: M/OAA/P, Ms. Lyudmila Bond, Room 867, SA-44, NW, U.S. Agency for International Development, Washington, DC 20523-2053. Telephone (202) 567-4753.

SUPPLEMENTARY INFORMATION:

(1) Type of Information Collections: USAID is requesting the Office of Management and Budget (OMB) to extend the approval of the information collections under OMB No: OMB 0412-0520 for an additional three years. This submission does not propose any revisions to the information collections.

(2) Title of the Form: Contractor Employee Biographical Data Sheet.

(3) Agency Form No.: AID 1420-17.

(4) Affected public who will be asked or required to respond, as well as a brief abstract: The U.S. Agency for International Development (USAID) is authorized to contract with any corporation, international organization, or other body of persons in or outside of the United States in furtherance of the purposes and within limitations of the Foreign Assistance Act (FAA). The information collection requirements placed on the public are published in 48 CFR chapter 7, and include the following offeror or contractor reporting requirements, identified by the AIDAR section number, as specified in the AIDAR 701.106: 752.219-8, 752.245-70, 752.245-71(c)(2), 752.247-70(c), 752.7001, 752.7002(j), 752.7003, 752.7004 and 752.7032.

The pre-award requirements are based on a need for prudent management in the determination that an offeror either has or can obtain the ability to competently manage development assistance programs using public funds. The requirements for information collections during the post-award period are based on the need to prudently administer public funds.

(5) An estimate of the total number of respondents and the amount of time estimated for an average respondent to respond: USAID estimates that 4,873 respondents will submit 36,467 submissions per year. The amount of time estimated to complete each response varies by item.

(6) An estimate of the total public burden (in hours) associated with the collections: 49,482.

(7) An estimate of the total public burden (in cost) associated with the collections: $3,139,106. Note that while the burden for these information collections falls on the public, most of the submissions are reimbursable either directly or indirectly under Agency contracts, the cost for most of these collections falls under the federal cost burden. Thus, the estimated total public cost burden that is not reimbursed through Agency contracts is $35,970.

Mark Walther,
Acting Senior Procurement Executive.

[FR Doc. 2018-02336 Filed 2-5-18; 8:45 am]

BILLING CODE 6116-01-P